DEPARTMENT OF ENERGY

Federal Energy Regulatory Commission

[Project No. 12747-002]

San Diego County Water Authority; Notice of Preliminary Permit Application Accepted For Filing and Soliciting Comments, Motions To Intervene, and Competing Applications

On July 1, 2013, the San Diego County Water Authority filed an application for a preliminary permit, pursuant to section 4(f) of the Federal Power Act, proposing to study the feasibility of the San Vicente Pumped Storage Water Power Project No. 12747 to be located on at the existing San Vicente dam and reservoir on San Vicente Creek in San Diego County, California. The proposed project would consist of the existing San Vicente reservoir functioning as the lower reservoir of the project and one of four alternatives as an upper reservoir. Specific details about each of these alternatives are described below. The sole purpose of a preliminary permit, if issued, is to grant the permit holder priority to file a license application during the permit term. A preliminary permit does not authorize the permit holder to perform any land-disturbing activities or otherwise enter upon lands or waters owned by others without the owners' express permission.

All four of the alternatives would use the San Vicente reservoir, as the lower reservoir of the pumped storage project. The San Vicente reservoir portion of the project consists of: (1) An existing dam, currently being raised to a dam height of 337 feet, and a length of 1,442 feet; and (2) an existing impoundment, that upon completion of the dam raise will have a surface area of 1,600 acres, and storage capacity of 247,000 acre-feet with a normal maximum water surface elevation of 767 feet above mean sea level (msl).

There are four alternatives for the upper reservoir, as described below.

Alternative Site A is located near Iron Mountain 3 miles northwest of San Vicente reservoir and includes: (1) A proposed 235-foot-high, 1,250-foot-long upper dam; (2) a proposed reservoir with a surface area of 93 acres having a storage capacity of 8,070 acre-feet and a normal maximum water surface elevation of 2,110 feet msl; (3) a proposed 12,300-foot-long, 20-foot-diameter concrete power tunnel; (4) two proposed 500-foot-long steel-lined penstocks; (5) a proposed powerhouse containing two generating units having a total installed capacity of 500 megawatts (MW); (6) a proposed 3,300-foot-long, 24-foot-diameter concrete tailrace; (7) a proposed 14,000-foot-long, 230-kilovolt transmission line; and (8) appurtenant facilities.

Alternative Site B is located near Foster Canyon, approximately 0.5 mile northwest of San Vicente reservoir and includes: (1) A proposed 215-foot-high, 4,500-foot-long upper dam; (2) a proposed upper reservoir with a surface area of 100 acres having a storage capacity of 12,200 acre-feet and a normal maximum water surface elevation of 1,490 feet msl; and (3) appurtenant facilities.

Alternative Site C is located approximately 1.8 miles southeast of the San Vicente reservoir and includes: (1) A proposed 200-foot-high, 2,200-foot-long upper dam; (2) a proposed upper reservoir with a surface area of 60 acres having a storage capacity of 6,800 acre-feet and a normal maximum water surface elevation of 1,600 feet msl; and (3) appurtenant facilities.

Alternative Site D is located approximately 1.8 miles southeast of the San Vicente reservoir. The reservoir would have a water surface area of 80 acres at a full pond elevation of 1,800 feet msl.

Each alternative would interconnect via a 230-kilovolt primary transmission line to the existing San Diego Gas and Electric Sunrise Powerlink 500-kV transmission line located approximately one half mile northwest of the project.

The applicant proposes to investigate potential power development in the range of 240 to 500 MW. The proposed project would have a maximum estimated annual generation of up to 1,000 gigawatt-hours, which would be sold to a local utility.

Applicant Contact: Frank Belock, Deputy General Manager, San Diego County Water Authority, 4677 Overland Avenue, San Diego CA 92123; phone: (858) 522-6788.

FERC Contact: Joseph P. Hassell, 202-502-8079

Deadline for filing comments, motions to intervene, competing applications (without notices of intent), or notices of intent to file competing applications: 60 days from the issuance of this notice. Competing applications and notices of intent must meet the requirements of 18 CFR 4.36 (2013).

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-12747-002.

More information about this project, including a copy of the application, can be viewed or printed on the “eLibrary” link of Commission's Web site at http://www.ferc.gov/docs-filing/elibrary.asp. Enter the docket number (P-12747-002) in the docket number field to access the document. For assistance, contact FERC Online Support.

Dated: December 19, 2013.
Kimberly D. Bose,
Secretary.

[FR Doc. 2013-30833 Filed 12-24-13; 8:45 am]

BILLING CODE 6717-01-P